DEPARTMENT OF THE TREASURY

Fiscal Service

Proposed Collection of Information: Annual Financial Statement of Surety Companies—Schedule F

AGENCY: Bureau of the Fiscal Service, Fiscal Service, Treasury.

ACTION: Notice and request for comments.

SUMMARY: The Bureau of the Fiscal Service, as part of its continuing effort to reduce paperwork and respondent burden, invites the general public and other Federal agencies to take this opportunity to comment on a continuing information collection. By this notice, the Bureau of the Fiscal Service solicits comments concerning the Form FMS-6314 “Annual Financial Statement of Surety Companies—Schedule F.”

DATES: Written comments should be received on or before September 23, 2013.

ADDRESSES: Direct all written comments to the Bureau of the Fiscal Service, Records and Information Management Branch, Room 135, 3700 East West Highway, Hyattsville, Maryland 20782.

FOR FURTHER INFORMATION CONTACT: Requests for additional information or copies of the form(s) and instructions should be directed to Melvin Saunders, Surety Bond Branch, Room 632F, 3700 East West Highway, Hyattsville, MD 20782, (202) 874-5283.

SUPPLEMENTARY INFORMATION: Pursuant to the Paperwork Reduction Act of 1995, (44 U.S.C. 3506(c)(2)(A)), the Bureau of the Fiscal Service solicits comments on the collection of information described below:

Title: Annual Financial Statement of Surety Companies—Schedule F.

OMB Number: 1510-0012.

Form Number: FMS-6314.

Abstract: This form provides information that is used to determine the amount of unauthorized reinsurance of Treasury approved Surety Companies and Treasury approved Admitted Reinsurers. This computation is necessary to ensure the solvency of companies recognized by the Treasury to write Federal surety bonds, and their ability to carry out contractual requirements.

Current Actions: Extension of currently approved collection.

Type of Review: Regular.

Affected Public: Business or other for-profit.

Estimated Number of Respondents: 328.

Estimated Time per Respondent: Varies from 1 hours to 40 hours.

Estimated Total Annual Burden Hours: 6,724.

Comments: Comments submitted in response to this notice will be summarized and/or included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: July 16, 2013.
Patricia M. Greiner,
Assistant Commissioner for Management (CFO).

[FR Doc. 2013-17518 Filed 7-22-13; 8:45 am]

BILLING CODE 4810-35-P